DEPARTMENT OF ENERGY

Federal Energy Regulatory Commission

Combined Notice of Filings

Take notice that the Commission has received the following Natural Gas Pipeline Rate and Refund Report filings:

Filings Instituting Proceedings

Docket Numbers: RP22-388-000.

Applicants: El Paso Natural Gas Company, L.L.C.

Description: § 4(d) Rate Filing: Negotiated Rate Agreement Update (SoCal Dec 2021) to be effective 12/2/2021.

Filed Date: 12/2/21.

Accession Number: 20211202-5123.

Comment Date: 5 p.m. ET 12/14/21.

Docket Numbers: RP22-389-000.

Applicants: Rover Pipeline LLC.

Description: § 4(d) Rate Filing: Summary of Negotiated Rate Capacity Release Agreements on 12-2-21 to be effective 12/1/2021.

Filed Date: 12/2/21.

Accession Number: 20211202-5159.

Comment Date: 5 p.m. ET 12/14/21.

Docket Numbers: RP22-390-000.

Applicants: Transcontinental Gas Pipe Line Company, LLC.

Description: § 4(d) Rate Filing: Rate Schedule S-2 Tracker Filing (ASA/PCB) eff 12/1/2021 to be effective 12/1/2021.

Filed Date: 12/2/21.

Accession Number: 20211202-5165.

Comment Date: 5 p.m. ET 12/14/21.

Docket Numbers: RP22-391-000.

Applicants: West Texas Gas Utility, LLC.

Description: § 4(d) Rate Filing: West Texas Gas Utility, LLC Revision to Update Name in Tariff to be effective 12/3/2021.

Filed Date: 12/2/21.

Accession Number: 20211202-5173.

Comment Date: 5 p.m. ET 12/14/21.

Docket Numbers: RP22-392-000.

Applicants: ETC Tiger Pipeline, LLC.

Description: § 4(d) Rate Filing: NRA Revised Exhibits—Chesapeake to be effective 11/1/2021.

Filed Date: 12/2/21.

Accession Number: 20211202-5216.

Comment Date: 5 p.m. ET 12/14/21.

Docket Numbers: RP22-393-000.

Applicants: Columbia Gas Transmission, LLC.

Description: § 4(d) Rate Filing: Colonial OPT30- 259925 Rev Share Neg Rate Agreement to be effective 12/1/2021.

Filed Date: 12/2/21.

Accession Number: 20211202-5222.

Comment Date: 5 p.m. ET 12/14/21.

Docket Numbers: RP22-394-000.

Applicants: Colorado Interstate Gas Company, L.L.C.

Description: § 4(d) Rate Filing: Negotiated Rate Agreement Update Filing (BHSC #218854) to be effective 1/1/2022.

Filed Date: 12/2/21.

Accession Number: 20211202-5246.

Comment Date: 5 p.m. ET 12/14/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 3, 2021.
Kimberly D. Bose,
Secretary.

[FR Doc. 2021-26669 Filed 12-8-21; 8:45 am]

BILLING CODE 6717-01-P